DEPARTMENT OF JUSTICE

Antitrust Division

Notice Pursuant to the National Cooperative Research and Production Act of 1993—Biotechnology Research and Development Corporation (“BRDC”)

Notice is hereby given that, on February 11, 2000, pursuant to Section 6(a) of the National Cooperative Research and Production Act of 1993, 15 U.S.C. 4301 et seq. (“the Act”), Biotechnology Research and Development Corporation (“BRDC”) has filed written notifications simultaneously with the Attorney General and the Federal Trade Commission disclosing changes in its membership status. The notifications were filed for the purpose of extending the Act's provisions limiting the recovery of antitrust plaintiffs to actual damages under specified circumstances. Specifically, Monsanto Company, St. Louis, MO; and PIC International Group plc, San Francisco, CA have been added as parties to this venture. Also, Dalgety plc, Franklin, KY; and McDonald's Corporation, Oakbrook, IL have been dropped as parties to this venture.

No other changes have been made in either the membership or planned activity of the group research project. Membership in this group research project remains open, and Biotechnology Research and Development Corporation (“BRDC”) intends to file additional written notification disclosing all changes in membership.

On April 13, 1988, Biotechnology Research and Development Corporation (“BRDC”) filed its original notification pursuant to Section 6(a) of the Act. The Department of Justice published a notice in the Federal Register pursuant to Section 6(b) of the Act on May 12, 1988 (53 FR 16919).

The last notification was filed with the Department on August 2, 1999. A notice was published in the Federal Register pursuant to Section 6(b) of the Act on December 14, 1999 (64 FR 69798).

Constance K. Robinson,
Director of Operations, Antitrust Division.

[FR Doc. 00-20153 Filed 8-8-00; 8:45 am]

BILLING CODE 4410-11-M